DEPARTMENT OF COMMERCE

Census Bureau

Proposed Information Collection; Comment Request; The American Community Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before December 17, 2018.

ADDRESSES: Please direct all written comments to Jennifer Jessup, Departmental Paperwork Clearance Officer, Department of Commerce, Room 6616, 14th and Constitution Avenue NW, Washington, DC 20230 (or via the internet at docpra@doc.gov). You may also submit comments, identified by Docket number USBC-2018-0014 to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, Rm. 2H465, U.S. Census Bureau, Decennial Census Management Division, Washington, DC 20233 or via email to Robin.A.Pennington@census.gov.

SUPPLEMENTARY INFORMATION:

I. Abstract

Since its founding, the U.S. Census Bureau has balanced the demands of a growing country for information about its people and economy, with concerns for respondents' privacy and the time and effort it takes respondents to answer questions. Beginning with the 1810 Census, Congress added questions to support a range of public concerns and uses, and over the course of a century, federal agencies requested to add questions about agriculture, industry, and commerce, as well as individuals' occupation, ancestry, marital status, disabilities, place of birth and other topics. In 1940, the U.S. Census Bureau introduced the long-form census in order to ask more detailed questions to only a sample of the public.

In the early 1990s, the demand for current, nationally consistent data from a wide variety of users led federal government policymakers to consider the feasibility of collecting social, economic, and housing data continuously throughout the decade. The benefits of providing current data, along with the anticipated decennial census benefits in cost savings, planning, improved census coverage, and more efficient operations, led the U.S. Census Bureau to plan the implementation of the continuous measurement survey, later called the American Community Survey (ACS). After years of testing the ACS, which is the current embodiment of the long form of the decennial census, the survey launched in 2005. Each year a sample of approximately 3.5 million households and about 200,000 persons living in group quarters in the mainland United States and Puerto Rico are selected to participate in the ACS.

In 2020, the ACS will change the race and ethnicity questions to match the 2020 Census. This change will make the ACS consistent with 2020 Census data on this topic. The ACS will also change the instruction for reporting babies' ages to match the 2020 Census. Ongoing research suggests the instructions for reporting infants creates challenges for some respondents. Cognitive testing demonstrated the wording for the age instruction is unclear and confusing to respondents. Details about all of the questions planned for the 2020 Census and the American Community Survey are available at https://www.census.gov/library/publications/2018/dec/planned-questions-2020-acs.html.

The ACS self-response rates in 2010, a decennial census year, were higher than usual in the first few months of the year, but were lower than usual in the spring and summer months, when the 2010 decennial census was underway. The increased self-response rates early in the year were attributed to decennial census communications while the decreased rates later in the year were attributed to respondent confusion, as respondents had already filled out their decennial census form and did not understand that the ACS was a separate data collection. Prior research suggests that during a decennial census year, ACS mail materials such as envelopes and letters should be revised to distinguish the ACS from the Census. For the 2020 data collection year, we are considering modifying the mail package contents, Field Representative flyers, scripts for the Interactive Voice Recognition system, frequently asked questions, and the ACS website to better communicate to respondents that the ACS is a separate data collection from the 2020 Census and that respondents selected for the ACS should complete both the ACS and the 2020 Census.

II. Method of Collection

To encourage self-response in the ACS, the Census Bureau sends up to five mailings to an address selected to be in the sample. The first mailing, sent to all mailable addresses in the sample, includes an invitation to participate in the ACS online and states that a paper questionnaire will be sent in a few weeks to those unable to respond online. Subsequent mailings serve as a reminder to respond to the survey, with a paper questionnaire included in the third mailing for those households that prefer to respond by mailing back the questionnaire. The Census Bureau may ask those who begin filling out the survey online to provide an email address, which would be used to send an email reminder to households that did not complete the online form. The reminder asks them to log back in to finish responding to the survey.

Some addresses are deemed unmailable because the address is incomplete or directs mail only to a post office box. The Census Bureau currently collects data for these housing units using Computer-Assisted Personal Interviewing. In July 2019, the ACS plans to make the online survey available to all housing units in the 50 states and the District of Columbia, including those with unmailable addresses. Residents in housing units with unmailable addresses will still be contacted by Census Bureau Field Representatives, but they will now be given the option to complete the survey online or by personal interview.

III. Data

OMB Control Number: 0607-0810.

Form Number(s): ACS-1, ACS-1(SP), ACS-1(PR), ACS-1(PR)SP, ACS-1(GQ), ACS-1(PR)(GQ), GQFQ, ACS CAPI (HU), ACS RI (HU), AGQ QI, and AGQ RI.

Type of Review: Regular submission.

Affected Public: Federal and legislative agencies, individuals, households, and businesses.

Estimated Time per Response: 40 minutes for the average household questionnaire; 15 minutes for a GQ facility questionnaire; 25 minutes for a GQ person questionnaire; 10 minutes for a household reinterview; 10 minutes for a GQ-level reinterview.

Estimated Total Annual Burden Hours: The Census Bureau plans to contact the following number of respondents each year: 3,540,000 households; 200,000 persons in group quarters; 20,000 contacts in group quarters; 43,000 households for reinterview; and 1,500 group quarters contacts for reinterview. The estimate is an annual average of 2,455,868 burden hours.

Table 1—Annual ACS Respondent and Burden Hour Estimates
Data collection operation | Forms or instrument used in data collection | Annual estimated number of respondents | Estimated minutes per respondent by data collection operation | Annual estimated burden hours
I. ACS Household Questionnaire—Paper Mailout/Mailback | ACS-1, ACS 1(SP), ACS-1PR, ACS-1PR(SP) | 3,540,000 | 40 | 2,360,000.
ACS Household CAPI—Personal Visit Non-response Follow-up | CAPI HU | [698,000 included in I.] | [40] | [466,000 included in I.].
ACS Household internet | Internet HU | [712,000 included in I.] | [40] | [475,000 included in I.].
II. ACS GQ Facility Questionnaire CAPI—Telephone and Personal Visit | CAPI GQFQ | 20,000 | 15 | 5,000.
III. ACS GQ CAPI Personal Interview or Telephone, and—Paper Self-response | CAPI, ACS-1(GQ), ACS-1(GQ)(PR) | 200,000 | 25 | 83,333.
IV. ACS Household Reinterview—CATI/CAPI | ACS HU-RI | 43,200 | 10 | 7,200.
V. ACS GQ GQ-level Reinterview—CATI/CAPI | ACS GQ-RI | 2,000 | 10 | 335.
Totals |  | 3,805,200 | N/A | 2,455,868.

Estimated Total Annual Cost to Public: $0 (This is not the cost of respondents' time, but the indirect costs respondents may incur for such things as purchases of specialized software or hardware needed to report, or expenditures for accounting or records maintenance services required specifically by the collection.)

Respondent's Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-22443 Filed 10-15-18; 8:45 am]

BILLING CODE 3510-07-P